DEPARTMENT OF JUSTICE

Drug Enforcement Administration

Manufacturer of Controlled Sustances; Notice of Registration

By Notice dated March 11, 2003, and published in the Federal Register on April 2, 2003, (68 FR 16091), Penick Corporation, 158 Mount Olivet Avenue, Newark, New Jersey 07114, made application by renewal to the Drug Enfocement Adminstration to be registered as a bulk manufacturer of the basic classes of controlled substances listed below:

Drug | Schedule
Cocaine (9041) | II
Ecgonine (9180) | II

The above cited Notice contained an error in that the drug code for Cocaine was listed as 9040 rather than 9041.

The firm plans to manufacture the listed controlled substances for the manufacture of a non-controlled substance flavor extract.

No comments or objections have been received. DEA has considered the factors in Title 21, United States Code, Section 823(a) and determined that the registration of Penick Corporation to manufacture the listed contolled substances is consistent with the public interest at this time. DEA has investigated Penick Corporation to ensure that the company's registration is consistent with the public interest. This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed is granted.

Dated: July 18, 2003.
Laura M. Nagel,
Deputy Assistant Administrator, Office of Diversion Control, Drug Enforcement Administration.

[FR Doc. 03-18867 Filed 7-23-03; 8:45 am]

BILLING CODE 4410-09-M